FEDERAL RETIREMENT THRIFT INVESTMENT BOARD

Notice of Meeting of the Employee Thrift Advisory Council

DATES: November 14, 2024 at 10 a.m.

ADDRESSES: Telephonic. Dial-in (listen only) information: Number: 1-202-599-1426, Code: 504 721 370#; or via web: https://www.frtib.gov/.

FOR FURTHER INFORMATION CONTACT: Kimberly Weaver, Director, Office of External Affairs, (202) 942-1640.

SUPPLEMENTARY INFORMATION:

ETAC Meeting Agenda

1. Approval of the minutes of the May 21, 2024, Joint Board/ETAC Meeting

2. Investment Program Review

3. 2024 FISMA Report

4. 2024 Participant Satisfaction Survey Results

5. 2024 Full Withdrawal Participant Exit Survey

6. Office of Participant Experience Update

7. Social Science Program Update

8. Legislative Update

9. New Business

Written Statements: Pursuant to 41 CFR 102-3.105(j) and 102-3.140 and section 10(a)(3) of the Federal Advisory Committee Act, interested parties may submit written statements in response to the stated agenda of the meeting, or to the Employee Thrift Advisory Council (ETAC), in general. Individuals may submit their comments to ETACComments@frtib.gov. Written comments or statements received less than 5 days before ETAC's meeting may not be provided to the Committee until its next meeting.

Authority: 5 U.S.C. 552b(e)(1).

Dated: October 30, 2024.
Dharmesh Vashee,
General Counsel, Federal Retirement Thrift Investment Board.

[FR Doc. 2024-25566 Filed 11-1-24; 8:45 am]

BILLING CODE P